ENVIRONMENTAL PROTECTION AGENCY

[FRL-7812-1]

Example Exposure Scenarios

AGENCY: Environmental Protection Agency.

ACTION: Notice of availability of a final document.

SUMMARY: This notice announces the availability of a final report titled, Example Exposure Scenarios (EPA/600/R-03/036, April 2004), which was prepared by the U.S. Environmental Protection Agency's (EPA) National Center for Environmental Assessment (NCEA) of the Office of Research and Development (ORD).

ADDRESSES: The document will be made available electronically through the NCEA Web site (http://www.epa.gov/ncea). A limited number of paper copies will be available from the EPA's National Service Center for Environmental Publications (NSCEP), P.O. Box 42419, Cincinnati, OH 45242; telephone: 1-800-490-9198 or 513-489-8190; facsimile: 513-489-8695. Please provide your name, your mailing address, the title and the EPA number of the requested publication.

FOR FURTHER INFORMATION CONTACT: The Technical Information Staff, National Center for Environmental Assessment/Washington Office (8623D), U.S. Environmental Protection Agency, 1200 Pennsylvania Avenue, NW., Washington, DC 20460. Telephone: 202-564-3261; fax: 202-565-0050; e-mail: nceadc.comment@epa.gov.

SUPPLEMENTARY INFORMATION: Exposure scenarios are a tool to help the assessor develop estimates of exposure, dose, and risk. An exposure scenario generally includes facts, data, assumptions, inferences, and sometimes professional judgment about how the exposure takes place. The human physiological and behavioral data necessary to construct exposure scenarios can be obtained from the Exposure Factors Handbook ( EPA/600/P-95/002Fa-Fc, 1997). The Exposure Factors Handbook provides data on drinking water consumption, soil ingestion, inhalation rates, dermal factors including skin area and soil adherence factors, consumption of fruits and vegetables, fish, meats, dairy products, homegrown foods, breast milk, activity patterns, body weight, consumer products, and life expectancy.

The purpose of the Example Exposure Scenarios is to outline scenarios for various exposure pathways and to demonstrate how data from the Exposure Factors Handbook may be applied for estimating exposures. The example scenarios have been selected to best demonstrate the use of the various key data sets in the Exposure Factors Handbook and represent commonly encountered exposure pathways. An exhaustive review of every possible exposure scenario for every possible receptor population would not be feasible and is not provided. Instead, readers may use the representative examples provided here to formulate scenarios that are appropriate to the assessment of interest, and apply the same or similar data sets and approaches as shown in the examples.

Dated: August 11, 2004.
P.W. Preuss,
Director, National Center for Environmental Assessment.

[FR Doc. 04-20598 Filed 9-10-04; 8:45 am]

BILLING CODE 6560-50-P